DEPARTMENT OF HOMELAND SECURITY

Federal Emergency Management Agency

[Docket ID: FEMA-2016-0017; OMB No. 1660-0022]

Agency Information Collection Activities: Proposed Collection; Comment Request; Community Rating System (CRS) Program—Application Worksheets and Commentary

AGENCY: Federal Emergency Management Agency, DHS.

ACTION: Notice.

SUMMARY: The Federal Emergency Management Agency, as part of its continuing effort to reduce paperwork and respondent burden, invites the general public and other Federal agencies to take this opportunity to comment on an extension, without change, of a currently approved information collection. In accordance with the Paperwork Reduction Act of 1995, this notice seeks comments concerning application for the National Flood Insurance Program's Community Rating System program. This program allows communities to become eligible for discounts on the cost of flood insurance when the communities undertake activities to mitigate anticipated damage due to flooding. The application materials verify and document the community mitigation activities performed and provides the Federal Emergency Management Agency with the information necessary to determine what flood insurance premium discounts are appropriate for participating communities.

DATES: Comments must be submitted on or before September 12, 2016.

ADDRESSES: To avoid duplicate submissions to the docket, please use only one of the following means to submit comments:

(1) Online. Submit comments at www.regulations.gov under Docket ID FEMA-2016-0017. Follow the instructions for submitting comments.

(2) Mail. Submit written comments to Docket Manager, Office of Chief Counsel, DHS/FEMA, 500 C Street SW., 8NE., Washington, DC 20472-3100.

All submissions received must include the agency name and Docket ID. Regardless of the method used for submitting comments or material, all submissions will be posted, without change, to the Federal Rulemaking Portal at http://www.regulations.gov, and will include any personal information you provide. Therefore, submitting this information makes it public. You may wish to read the Privacy Act notice that is available via the link in the footer of www.regulations.gov.

FOR FURTHER INFORMATION CONTACT: Bill Lesser, Program Specialist, Federal Insurance and Mitigation Administration, (202) 646-2807. You may contact the Records Management Division for copies of the proposed collection of information at email address: FEMA-Information-Collections-Management@fema.dhs.gov.

SUPPLEMENTARY INFORMATION: Section 541 of the National Flood Insurance Reform Act (NFIRA) of 1994, 42 U.S.C. 4022, requires that a community rating system be established. This ratings system is a voluntary program for communities and it would provide a method by which flood mitigation activities engaged in by these communities could be measured. The effect of this mitigation activity would reduce the exposure of the communities to damages resulting from flooding and in turn reduce the losses incurred as a result of this flooding. To encourage participation, discounts on flood insurance are offered within communities that successfully complete qualified mitigation actions, and the community ratings system provides the ability to measure these actions and to recertify the communities in successive years.

Collection of Information

Title: Community Rating System (CRS) Program—Application Worksheets and Commentary.

Type of Information Collection: Extension, without change, of a currently approved information collection.

OMB Number: 1660-0022.

FEMA Forms: FEMA Form 086-0-35, Community Rating System Application Letter of Interest and Quick Check Instructions; FEMA Form 086-0-35A, Community Annual Recertification; and FEMA Form 086-0-35B, Environmental and Historic Preservation Certifications.

Abstract: The Application and Certifications are used by communities that participate in the National Flood Insurance Program's (NFIP) Community Rating System (CRS). The CRS is a voluntary program where flood insurance costs are reduced in communities that implement practices, such as building codes and public awareness activities, which are considered to reduce the risks of flooding and promote the purchase of flood insurance.

Affected Public: State, Local or Tribal government.

Number of Respondents: 1,579.

Number of Responses: 1,579.

Estimated Total Annual Burden Hours: 41,936 hours.

Estimated Cost: The estimated annual cost to respondents for the hour burden is $2,442,795.30. There are no annual costs to respondents' operations and maintenance costs for technical services. There are no annual start-up or capital costs. The cost to the Federal Government is $5,425,600.00.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: July 6, 2016.
Richard W. Mattison,
Records Management Program Chief, Mission Support, Federal Emergency Management Agency, Department of Homeland Security.

[FR Doc. 2016-16628 Filed 7-13-16; 8:45 am]

BILLING CODE 9111-52-P